DEPARTMENT OF HEALTH AND HUMAN SERVICES

National Institutes of Health

Center for Scientific Review; Amended Notice of Meeting

Notice is hereby given of a change in the meeting of the Social Psychology, Personality and Interpersonal Processes Study Section, October 6, 2008, 8 a.m. to October 6, 2008, 5 p.m., Admiral Fell Inn, 888 South Broadway, Baltimore, MD, 21231 which was published in the Federal Register on August 21, 2008, 73 FR 49465-49467.

The meeting will be held at the Pier V Hotel, 711 Eastern Avenue, Baltimore, MD 21205. The meeting date and time remain the same. The meeting is closed to the public.

Dated: August 27, 2008.
Jennifer Spaeth,
Director, Office of Federal Advisory Committee Policy.

[FR Doc. E8-20433 Filed 9-3-08; 8:45 am]

BILLING CODE 4140-01-M